DEPARTMENT OF THE INTERIOR

Bureau of Land Management

[BLM_UT_FRN_MO4500182554]

Notice of Public Meeting, San Rafael Swell Recreation Area Advisory Council, Utah

AGENCY: Bureau of Land Management, Interior.

ACTION: Notice of public meeting.

SUMMARY: In accordance with the Federal Land Policy and Management Act, the Federal Advisory Committee Act, and the Federal Lands Recreation Enhancement Act, the U.S. Department of the Interior, Bureau of Land Management's (BLM) San Rafael Swell Recreation Area Advisory Council (Council) will meet as indicated below.

DATES: The Council will hold a public meeting on November 20, 2024, at the Castle Dale City Hall Building from 9:00 a.m. to 3:30 p.m. Mountain Time (MT). The meeting is open to the public.

ADDRESSES: The meeting will be held at the Castle Dale City Hall Building, 20 South 100 East, Castle Dale, Utah 84513. A virtual participation option will also be available. Individuals that prefer to participate virtually must register in advance. Registration information and the final agenda will be posted two weeks in advance of the meeting at https://www.blm.gov/get-involved/resource-advisory-council/near-you/utah/San-Rafael-Swell-RAC.

FOR FURTHER INFORMATION CONTACT: BLM Green River Deputy District Manager Lisa Everett, by telephone at (435) 781-4400 or email at utprmail@blm.gov. Persons in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The John D. Dingell, Jr. Conservation, Management, and Recreation Act (Pub. L. 116-9) established the Council to advise the Secretary of the Interior, through the BLM, on planning and managing the San Rafael Swell Recreation Area. The seven-member Council represents a wide range of interests including local government, recreational users, grazing allotment permittees, conservation organizations, people with expertise in historical uses of the recreation area, and Tribal Nations. Agenda items for the November meeting include the proposed dispersed recreation zones in relation to other resources and uses, special recreation permits, and other topics as appropriate. A public comment period will be offered at 2:00 p.m. MT. Depending on the number of persons wishing to speak and the time available, the amount of time for oral comments may be limited. Information to be distributed to the RAC is requested before the start of each meeting. Written comments may be sent prior to each meeting either by mail to the BLM Green River District, Attn: Lisa Everett, 170 South 500 West, Vernal, UT 84078, or by email at utprmail@blm.gov, with the subject line “San Rafael Swell Recreation Area Advisory Council Meeting.” All comments received will be provided to the RAC.

Public Disclosure of Comments: Before including your address, phone number, email address, or other personal identifying information in your comments, please be aware that your entire comment—including your personal identifying information—may be made publicly available at any time. While you can ask us in your comment to withhold your personal identifying information from public review, we cannot guarantee we will be able to do so.

Requests for Accommodations: Please make requests in advance for sign language interpreter services, assistive listening devices, language translation services, or other reasonable accommodations. We ask that you contact the person listed in the FOR FURTHER INFORMATION CONTACT section of this notice at least 14 business days prior to the meeting to give the Department of the Interior sufficient time to process your request. All reasonable accommodation requests are managed on a case-by-case basis.

Detailed meeting minutes will be maintained in the BLM Green River District Office and will be made available for public inspection and reproduction during regular business hours within 90 days following each meeting. Minutes will also be posted to the Council's web page at https://www.blm.gov/get-involved/resource-advisory-council/near-you/utah/San-Rafael-Swell-RAC.

(Authority: 43 CFR 1784-2)

Gregory Sheehan,
State Director.

[FR Doc. 2024-22712 Filed 10-1-24; 8:45 am]

BILLING CODE 4331-25-P